ENVIRONMENTAL PROTECTION AGENCY

[ER-FRL-8596-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in Federal Register Dated July 17, 2009 (74 FR 34754).

Draft EISs

EIS No. 20090152, ERP No. D-BLM-J80008-UT, Mona to Oquirrh Transmission Corridor Project and Draft Pong Express Resource Management Plan Amendment, Construction, Operation, Maintenance and Decommissioning a Double-Circuit 500/345 Kilovolt (Kv) Transmission Line, Right-of-Way Grant, Rocky Mountain Power, Juab, Salt Lake, Tooele and Utah Counties, UT.

Summary: EPA expressed environmental concerns about wetland impacts and the disturbance of a Superfund site, and requested additional information on wetland and air quality impacts. Rating EC2.

EIS No. 20090159, ERP No. D-FHW-E40827-NC, Gaston East-West Connector Project, Construction from I-85 west Gastonia to I-485/NC 160 near the Charlotte-Douglas International Airport, Gaston and Meckleburg Counties, NC.

Summary: EPA expressed environmental objections because the project will potentially contribute significant VMTs and increased emissions and ultimately make achievement of the NAAQS difficult. In addition, jurisdictional waters are currently impaired in the project study area from construction and related activities. Both the direct and indirect and cumulative impacts will potentially further degrade water quality. Rating EO2.

EIS No. 20090170, ERP No. D-FHW-F40448-WI, Zoo Interchange Corridor Study, Reconstruction to I0-94 from 70th Street to 124 Street and on U.S. 45 from Burleigh Street to I-894/U.S. 45 and Lincoln Avenue in Milwaukee County, WI.

Summary: EPA expressed environmental concerns about air quality, wetland, and surface water impacts. Rating EC2.

EIS No. 20090171, ERP No. D-NOA-L99011-WA, PROGRAMMATIC—Lower Duwamish River Natural Resource Damage Assessment (NRDA) Restoration Plan, Implementation, King County, WA.

Summary: While EPA has no objections to the proposed action, it requested clarification of water quality issues. Rating LO.

EIS No. 20090178, ERP No. D-IBR-K29002-CA, North Bay Water Recycling Program (NBWRP), (Formerly North San Pablo Bay Restoration and Reuse Project), Proposed to Promote the Expanded Beneficial Use of Recycled Water, Northern Marin Water District, Napa County, CA.

Summary: While EPA has no objection to the proposed action, it requested clarification of water related issues. Rating LO.

EIS No. 20090181, ERP No. D-AFS-K65368-CA, Lower Trinity and Mad River Motorized Travel Management, Proposed to Prohibit Cross-County Motor Vehicle Travel Off Designated National Forest Transportation System (NFTS) Roads and Motorized Trails, Six River National Forest, CA.

Summary: EPA expressed environmental concerns about impacts to riparian and aquatic resources and to perennial creeks, wet meadows, and fens. Rating EC2.

EIS No. 20090189, ERP No. D-AFS-K65370-CA, Beaverslide Timber Sale and Fuel Treatment Project, Proposing to Harvest Commercial Timber and Treat Hazardous Fuels, Six Rivers National Forest, Mad River Ranger District, Trinity County, CA.

Summary: EPA expressed environmental concerns about potential adverse impacts to already impaired water bodies. Rating EC2.

EIS No. 20090199, ERP No. D-AFS-L65573-OR, Westside Rangeland Analysis Project, Proposal to Allocate Forage for Commercial Livestock Grazing on Six Alternatives, Mud and Tope Creeks, Wallowa Valley Ranger District, Wallowa-Whitman National Forest, Wallowa County, OR.

Summary: EPA expressed environmental concerns about the potential impacts to water quality within creeks that are already on the Oregon State's most current 303(d) list and subsequent impacts to aquatic resources therein. Rating EC2.

EIS No. 20090200, ERP No. D-AFS-F65076-MI, Niagara Project, To Address Site-Specific Vegetation and Transportation System Needs in the Project Areas, Hiawatha National Forest, St. Ignace and Sault Ste. Marie Ranger Districts, Mackinac and Chippewa Counties, MI.

Summary: EPA does not object to the proposed action. Rating LO.

EIS No. 20090205, ERP No. DS-AFS-L65531-OR, Invasive Plant Treatments within the Deschutes and Ochoco National Forests and the Crooked River National Grassland, Updated Information on Three New Alternatives, Proposal for Treatment of Invasive Plant Infestation and Protection of Uninfested Areas, Implementation, Several Cos. OR.

Summary: EPA's previous issues have been resolved; therefore, EPA has no objection to the proposed action. Rating LO.

Final EISs

EIS No. 20080504, ERP No. F-FRC-D03016-MD, Sparrows Point Liquefied Natural Gas (LNG) Import Terminal Expansion and Natural Gas Pipeline Facilities, Construction and Operation, Application Authorization, U.S. COE Section 10 and 404 Permits, Baltimore County, MD.

Summary: EPA continues to have environmental concerns about wetland impacts and air conformity issues.

EIS No. 20090153, ERP No. F-AFS-J65484-MT, Grizzly Vegetation and Transportation Management Project, Proposes Timber Harvest, Prescribed Burning, Road Maintenance, and Transportation Management Actions, Three Rivers Ranger District, Kootenai National Forest, Lincoln County, MT.

Summary: EPA continues to have environmental concerns about impacts to riparian areas, soils and grizzly bear habitat.

EIS No. 20090186, ERP No. F-FRC-K03031-CA, South Feather Power Project, (Project No. 2099-068), Application to Relicense its 104-megawatt, South Fork Feather River, Lost Creek and Slate Creek, Butte, Yuba, and Plumas Counties, CA.

Summary: EPA continues to have environmental concerns about impacts to water quality, cumulative impacts and a lack of discussion of climate change effects on the project.

EIS No. 20090191, ERP No. F-NOA-D91001-00, Amendment 1 to the Consolidated Highly Migratory Species (HMS) Fishery Management Plan, (FMP), Updating and Revising Essential Fish Habitat (EFH) for Atlantic Highly Migratory Species (HMS) consider additional Habitat Area of Particular Concern (HAPC) and Analyze Fishing Impacts, Chesapeake Bay, MD, Delaware Bay, DE, Great Bay, NJ and Outer Bank off NC.

Summary: EPA does not object to the proposed action.

EIS No. 20090207, ERP No. F-FHW-J40184-UT, SR-262; Montezuma Creek to Aneth Project, Improvements to the Intersection of SR-162, SR-262, and County Road (CR) 450 in Montezuma Cree, Funding, Navajo Nation, San Juan County, UT.

Summary: EPA continues to have environmental concerns about water quality and recommended measures to reduce increased sedimentation and erosion.

EIS No. 20090212, ERP No. F-FTA-F40434-MN, Central Corridor Project, Selected the Preferred Alternative, 11 miles Light Rail Transit between downtown Minneapolis and downtown St. Paul, Minnesota, Twin Cities Metropolitan Area, MN.

Summary: While EPA previous issues have been resolved, it requested clarification on hazardous waste sites, parking losses, future stations in environmental justice neighborhoods and stormwater management.

EIS No. 20090216, ERP No. F-COE-E39075-MS, PROGRAMMATIC EIS—Mississippi Coastal Improvements Program (MsCIP), Comprehensive Plan, Implementation, Hancock, Harrison and Jackson Counties, MS.

Summary: EPA does not object to the proposed action.

EIS No. 20090217, ERP No. F-AFS-L65561-AK, Logjam

Timber Sale Project, Proposes Timber Harvesting from 4 Land Use Designations, Tongass Land and Resource Management Plan, Thorne Bay Ranger District, Tongass National Forest, Prince of Wales Island, AK.

Summary: EPA continues to have environmental concerns about impacts to water quality.

EIS No. 20090243, ERP No. F-COE-E39078-FL, C-111 Spreader Canal Western Project, To Restore Ecosystem Function in Taylor Slough and Florida Bay Areas, Central and Southern Florida Project, Comprehensive Everglades Restoration Plan (CERP), Everglades National Park, Miami-Dade County, FL.

Summary: EPA does not object to the proposed action.

EIS No. 20090220, ERP No. FA-NOA-A91061-00, Amendment 10 Atlantic Mackerel, Squid, Butterfish Fishery Management Plan, Development of a Rebuilding Program that Allows Butterfish Stock to Rebuild in the Shortest Time Possible, Exclusive Economic Zone (EEZ), off the U.S. Atlantic Coast.

Summary: EPA does not object to the proposed action.

Dated: August 18, 2009.
Robert W. Hargrove,
Director, NEPA Compliance Division, Office of Federal Activities.

[FR Doc. E9-20199 Filed 8-20-09; 8:45 am]

BILLING CODE 6560-50-P